DEPARTMENT OF STATE

[Public Notice 7863]

Culturally Significant Objects Imported for Exhibition Determinations: “Rembrandt, Van Dyck, Gainsborough: The Treasures of Kenwood House, London”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000 (and, as appropriate, Delegation of Authority No. 257 of April 15, 2003), I hereby determine that the objects to be included in the exhibition “Rembrandt, Van Dyck, Gainsborough: The Treasures of Kenwood House, London,” imported from abroad by the American Federation of Arts for temporary exhibition within the United States, are of cultural significance. The objects are imported pursuant to loan agreements with the foreign owners or custodians. I also determine that the exhibition or display of the exhibit objects at the following Federation member venues for the following approximate periods is in the national interest: the Museum of Fine Arts Houston from on or about June 3 to on or about September 4, 2012; the Milwaukee Museum of Art from on or about October 4, 2012 to on or about January 6, 2013; the Seattle Art Museum from on or about February 14, 2013 to on or about May 19, 2013; the Arkansas Art Center from on or about June 6, 2013 to on or about September 8, 2013; and at possible additional exhibitions or venues yet to be determined. I have ordered that Public Notice of these Determinations be published in the Federal Register.

FOR FURTHER INFORMATION CONTACT: For further information, including a list of the exhibit objects, contact Ona M. Hahs, Attorney-Adviser, Office of the Legal Adviser, U.S. Department of State (telephone: 202-632-6473). The mailing address is U.S. Department of State, SA-5, L/PD, Fifth Floor (Suite 5H03), Washington, DC 20522-0505.

Dated: April 25, 2012.
J. Adam Ereli,
Principal Deputy Assistant Secretary, Bureau of Educational and Cultural Affairs, Department of State.

[FR Doc. 2012-10509 Filed 4-30-12; 8:45 am]

BILLING CODE 4710-05-P